DEPARTMENT OF COMMERCE

National Oceanic and Atmospheric Administration

RIN 0648-BI58

Reopening of Comment Period on a Supplemental Draft Environmental Impact Statement Regarding the Makah Tribe's Request To Hunt Eastern North Pacific Gray Whales

AGENCY: National Marine Fisheries Service (NMFS), National Oceanic and Atmospheric Administration (NOAA), Commerce.

ACTION: Notice; reopening of public comment period.

SUMMARY: NMFS announces the reopening of the public comment period for seven days on the Supplemental Draft Environmental Impact Statement on the Makah Tribe Request to Hunt Gray Whales. We announced a 45-day comment period to end on August 15, 2022, and on August 16, 2022, we announced an extension of the public comment period by 60 days to October 14, 2022. Comments previously submitted need not be resubmitted.

DATES: The comment period for the notice published at 87 FR 39804 on July 5, 2022, which was extended at 87 FR 50319 on August 16, 2022, is reopened. Comments must be received during the reopened public comment period from October 28, 2022 until November 3, 2022.

ADDRESSES: You may submit comments, identified by NOAA-NMFS-2012-0104-0456, by any of the following methods:

Electronic Submissions: Submit all electronic public comments via the Federal eRulemaking Portal http://www.regulations.gov.

Email: Submit electronic public comments via the following NMFS email address: makah2022sdeis.wcr@noaa.gov.

Mail: Submit written comments to: Grace Ferrara, NMFS West Coast Region, 7600 Sand Point Way NE, Seattle, WA 98115.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Grace Ferrara, NMFS Northwest Region, (206) 526-6172, makah2022sdeis.wcr@noaa.gov.

SUPPLEMENTARY INFORMATION: On July 1, 2022, NMFS issued a Supplemental Draft Environmental Impact Statement (SDEIS) regarding the Makah Tribe's request to resume ceremonial and subsistence harvest of eastern North Pacific gray whales and announced a 45-day comment period on the SDEIS. During the comment period, we received a request to extend the public comment period and agreed to extend the public comment period by 60 days, to close on October 14, 2022. On October 6, 2022, we received a second request to extend the public comment period. While that request was received too late to allow for an extension notice, we are now reopening the comment period for an additional 7 days, from October 28, 2022 through November 3, 2022.

The SDEIS is available in electronic form on the internet at the following address: https://www.fisheries.noaa.gov/west-coast/marine-mammal-protection/makah-tribal-whale-hunt. In addition, copies of the SDEIS are available on CD by contacting Grace Ferrara (see FOR FURTHER INFORMATION CONTACT).

Dated: October 19, 2022.
Kimberly Damon-Randall,
Director, Office of Protected Resources, National Marine Fisheries Service.

[FR Doc. 2022-23112 Filed 10-24-22; 8:45 am]

BILLING CODE 3510-22-P